DEPARTMENT OF COMMERCE

National Oceanic and Atmospheric Administration

50 CFR Part 622

[Docket No. 130128081-3297-01]

RIN 0648-BC96

Fisheries of the Caribbean, Gulf of Mexico, and South Atlantic; Commercial Trap Sectors of the Reef Fish and Spiny Lobster Fisheries in the U.S. Caribbean; Control Date

AGENCY: National Marine Fisheries Service (NMFS), National Oceanic and Atmospheric Administration (NOAA), Commerce.

ACTION: Advance notice of proposed rulemaking; consideration of a control date.

SUMMARY: NMFS announces that it is establishing a control date of February 10, 2011, to control future access to the commercial trap sectors of the reef fish and spiny lobster fisheries operating in the exclusive economic zone (EEZ) of the U.S. Caribbean. If changes to the management regime are developed and implemented under the Magnuson-Stevens Fishery Conservation and Management Act (Magnuson-Stevens Act), a control date could be used to limit the number of participants in these sectors. This announcement is intended, in part, to promote awareness of the potential eligibility criteria for future access so as to discourage speculative entry into the trap sectors while the Caribbean Fishery Management Council (Council) and NMFS consider whether and how access to the commercial trap sectors of the reef fish and spiny lobster fisheries should be controlled.

DATES: Written comments must be received on or before May 6, 2013.

ADDRESSES: You may submit comments, identified by “NOAA-NMFS-2013-0022” by any one of the following methods:

• Electronic submissions: Submit all electronic public comments via the Federal e-Rulemaking Portal. Go to www.regulations.gov/#!docketDetail;D=NOAA-NMFS-2013-0022, click the “Comment Now!” icon, complete the required fields, and enter or attach your comments.

• Mail: Submit written comments to Britni Tokotch, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Britni Tokotch, Southeast Regional Office, NMFS, telephone 727-824-5305, email: britni.tokotch@noaa.gov.

SUPPLEMENTARY INFORMATION: At the August 2012 Council meeting, the Council recommended a control date of February 10, 2011, for the commercial trap sectors of the reef fish and spiny lobster fisheries in the U.S. Caribbean. The control date would apply to persons who are contemplating entering these trap sectors.

Previously, the Council established a control date of March 24, 2009, for the commercial sector of the reef fish, queen conch, and spiny lobster fisheries operating in Federal waters off Puerto Rico and the U.S. Virgin Islands (USVI). Subsequent to that action, the USVI began development of trap reduction programs and established a February 10, 2011, control date. At the August 2012 meeting, the Council discussed the ongoing development of trap reduction programs in the USVI, which if approved and implemented, would preserve and protect the historical and cultural fish trap sectors in a sustainable manner by reducing the total number of traps. To be consistent with the territorial regulations, the Council voted to update the previous control date of March 24, 2009, and establish a February 10, 2011, control date for the commercial trap sectors of the reef fish and spiny lobster fisheries of the U.S. Caribbean.

The Council requested that this control date be published in the Federal Register to notify fishermen that if they entered such a sector after February 10, 2011, they may not be assured of future access if the Council and/or NMFS decide to limit entry or impose other measures to manage these trap sectors.

Establishment of this control date does not commit the Council or NMFS to any particular management regime or criteria for entry into the commercial trap sectors of the reef fish and spiny lobster fisheries. Fishermen are not guaranteed future participation in the sectors regardless of their level of participation before or after the control date. The Council may recommend a different control date or it may recommend a management regime that does not involve a control date. Other criteria, such as documentation of landings or fishing effort, may be used to determine eligibility for participation in a limited access fishery or sector. The Council and/or NMFS also may choose to take no further action to control entry or access to the sectors, in which case the control date may be rescinded. Any action by the Council will be taken pursuant to the requirements for fishery management plan and amendment development established under the Magnuson-Stevens Act.

This notification also gives the public notice that interested participants should locate and preserve records that substantiate and verify their participation in the commercial trap sectors of the reef fish and spiny lobster fisheries in the U.S. Caribbean EEZ.

Authority: 16 U.S.C. 1801 et seq.

Dated: April 2, 2013.
Alan D. Risenhoover,
Director, Office of Sustainable Fisheries, performing the functions and duties of the Deputy Assistant Administrator for Regulatory Programs, National Marine Fisheries Service.

[FR Doc. 2013-07991 Filed 4-4-13; 8:45 am]

BILLING CODE 3510-22-P